SECURITIES AND EXCHANGE COMMISSION

[File No. 500-1]

In the Matter of China Energy Savings Technology, Inc.; Order of Suspension of Trading

May 19, 2006.

It appears to the Securities and Exchange Commission that there is a lack of current and accurate information concerning the securities of China Energy Savings Technology, Inc. (“China Energy”), a Nevada corporation headquartered in Hong Kong.

The Commission is concerned that certain China Energy affiliates and shareholders may have unjustifiably relied upon Rule 144 of the Securities Act of 1933 (“Securities Act”) in conducting an unlawful distribution of securities that failed to comply with the resale restrictions of Rule 144 of the Securities Act. The Commission is also concerned that China Energy may have unlawfully relied upon Form S-8 of the Securities Act to issue unrestricted securities.

Questions also have arisen regarding the accuracy and completeness of information contained in China Energy's public filings with the Commission concerning, among other things, statements regarding the company's shareholder base.

The Commission is of the opinion that the public interest and the protection of investors require a suspension of trading in the securities of the above-listed company.

Therefore, it is ordered, pursuant to Section 12(k) of the Securities Exchange Act of 1934, that trading in the above-listed company is suspended for the period from 12:01 a.m. EDT, May 19, 2006, through 11:59 p.m. EDT, on June 2, 2006.

By the Commission.
J. Lynn Taylor,
Assistant Secretary.

[FR Doc. 06-4807 Filed 5-19-06; 11:48 am]

BILLING CODE 8010-01-P